ENVIRONMENTAL PROTECTION AGENCY

[FRL-7098-1]

EPA Science Advisory Board Executive Committee; Notification of Public Advisory Committee Meeting

Pursuant to the Federal Advisory Committee Act, Public Law 92-463, notice is hereby given that the Executive Committee (EC) of the US EPA Science Advisory Board (SAB) will meet on Wednesday, November 28, 2001 and Thursday, November 29, 2001 in Conference Room 6013, USEPA, Ariel Rios Building North, 1200 Pennsylvania Avenue, NW., Washington, DC 20460. The meeting will begin by 8:30 a.m. on November 28 and adjourn no later than 3:00 p.m. on November 29, 2001 Eastern Time. All meetings are open to the public, however, seating is limited and available on a first come basis.

Purpose of the Meeting: This meeting of the SAB Executive Committee is one in a series of periodic meetings in which the EC takes action on reports generated by SAB Committees, meets with Agency leadership, and addresses a variety of issues germane to the operation of the Board. The agenda for the November 28 meeting will be posted on the SAB website (www.epa.gov/sab) not later than 5 days before the meeting and may include, but not be limited to the following:

1. Action on Committee reports

a. A Framework for Reporting on Ecological Condition: An SAB Report from the Ecological Processes and Effects Committee (EPEC)

b. The Southeastern Ecological Framework: An SAB Report from EPEC

c. Multi-year Research Plans: Water Quality and Pollution Prevention: An SAB Report from the Research Strategies Advisory Committee (RSAC)

2. Meeting with Agency leaders, including

a. Governor Christine Todd Whitman, USEPA Administrator

b. Ms. Linda Fisher, Deputy USEPA Administrator

c. Top award winners of the Agency's Scientific and Technological Achievement Awards (STAA) competition

3. Matters of Board business, including

a. Training on conflicts-of interest

b. Update on steps taken to respond to the General Accounting Office report on the SAB

c. Setting the SAB agenda for FY02 and beyond.

Availability of Review Materials: Draft SAB reports will be posted on the SAB Website (www.epa.gov/sab) approximately two weeks before the date of the meeting. The underlying documents that are the subject of SAB reviews, however, are not available from the SAB Office but are normally available from the originating EPA office.

For Further Information—Any member of the public wishing further information concerning this meeting or wishing to submit brief oral comments (10 minutes or less) must contact Dr. Donald Barnes, Designated Federal Officer, EPA Science Advisory Board (1400A), U.S. Environmental Protection Agency, 1200 Pennsylvania Avenue, NW., Washington, DC 20460; telephone (202) 564-4533; FAX (202) 501-0323; or via e-mail at barnes.don@epa.gov. Requests for oral comments must be in writing (e-mail, fax or mail) and received by Dr. Barnes no later than noon Eastern Time on November 21, 2001.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to Dr. Barnes at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0323. Committee rosters, draft Agendas and meeting calendars are also located on our website.

Meeting Access—Individuals requiring special accommodation at this meeting, including wheelchair access to the conference room, should contact Dr. Barnes at least five business days prior to the meeting so that appropriate arrangements can be made.

Dated: October 30, 2001.
John R. Fowle III,
Acting Staff Director, EPA Science Advisory Board.

[FR Doc. 01-27726 Filed 11-2-01; 8:45 am]

BILLING CODE 6560-50-P